DEPARTMENT OF COMMERCE

National Oceanic and Atmospheric Administration

[RTID 0648-XE216]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Southeast Data, Assessment, and Review (SEDAR) Committee, Habitat and Ecosystem Committee, and Snapper Grouper Committee. The meeting week will also include a formal public comment session and meetings of the Full Council.

DATES: The Council meeting will be held from 10 a.m. on Monday, September 16, 2024, until 12 p.m. on Friday, September 20, 2024.

ADDRESSES:

Meeting address: The meeting will be held at the Town & Country Inn and Suites, 2008 Savannah Highway, Charleston, SC 29407; phone: (843) 571-1000. The meeting will also be available via webinar. See SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: https://safmc.net/council-meetings/. Webinar registration links for the meeting will also be available from the Council's website.

Public comment: Public comment on agenda items may be submitted through the Council's online comment form available from the Council's website at: https://safmc.net/events/september-2024-council-meeting/. Written comments will be accepted from August 30, 2024 until September 10, 2024. These comments are accessible to the public, part of the Administrative Record of the meeting, and immediately available for Council consideration. A formal public comment session will also be held during the Council meeting.

The items of discussion in the individual meeting agendas are as follows:

Council Session I, Monday, September 16, 2024, 10 a.m. Until 12 p.m. (CLOSED SESSION)

The Council will meet in closed session to receive a litigation brief if needed, address appointments to advisory panels, the Council's Citizen Science Operations Committee and discuss restructuring the Shrimp Advisory Panels (APs).

Council Session I, Monday, September 16, 2024, 1:30 p.m. Until 5 p.m. and Tuesday, September 17, 2024, 8:30 a.m. Until 3 p.m.

Newly appointed Council members will be sworn in and the Law Enforcement Officer of the Year Award will be presented. The Council will receive reports from NOAA Office of Law Enforcement, the U.S. Coast Guard, Council liaisons, and state agencies. The Council will receive staff reports, an update on the Hudson Canyon National Marine Sanctuary, discuss restructuring the Shrimp APs, and hear a report from its Scientific and Statistical Committee (SSC) on items not covered during committee meetings.

The Council will also receive agency reports from NOAA Fisheries, an update on the Western Central Atlantic Fisheries Commission (WECAFC) Flyingfish and Dolphinfish Workgroup meeting, discuss the Southeast For-Hire Integrated Electronic Reporting (SEFHIER) Program Improvement Amendment, receive an update on the East Coast Climate Change Scenario Planning Initiative, and review allocations for species that meet the time-based criteria in the Council's Allocation Review Trigger Policy.

SEDAR Committee, Tuesday, September 17, 2024, 3 p.m. Until 5 p.m.

The Committee will receive a report from the SEDAR Steering Committee, discuss changes to the SEDAR process and identify key stocks, and review species selected for 2026 assessments.

Habitat and Ecosystem Committee, Wednesday, September 18, 2024, 8:30 a.m. Until 10 a.m.

The Committee will discuss Coral Amendment 10 addressing a fishery access area and consider resubmission to the Secretary of Commerce.

Snapper Grouper Committee, Wednesday, September 18, 2024, 10 a.m. Until 3:45 p.m., and Thursday, September 19, 2024, 8:30 a.m. Until 12 p.m.

The Committee will receive an update on Exempted Fishing Permits for red snapper and receive an update on the status of amendments under review from NOAA Fisheries. The Committee will consider public hearing input on Snapper Grouper Regulatory Amendment 36 addressing ropeless gear in the Black Sea Bass pot fishery and vessel limits for Gag and Black Grouper, modify the amendment as necessary, and consider recommending the amendment for Secretarial approval. The Committee will consider public hearing input on Amendment 55 addressing management measures for Scamp and Yellowmouth Grouper, modify the amendment if necessary, and consider recommending the amendment for Secretarial review. The Committee will also continue to discuss management measures for Black Sea Bass through Snapper Grouper Amendment 56 and provide input to staff for topics for the fall 2024 meeting of the Snapper Grouper AP.

Wednesday, September 18, 2024, 4 p.m.—Public comment will be accepted from individuals attending the meeting in person and via webinar on all items on the Council meeting agenda. The Council Chair will determine the amount of time provided to each commenter based on the number of individuals wishing to comment.

Council Session II, Thursday, September 19, 2024, 1:30 p.m. Until 5 p.m. and Friday, September 20, 2024, 8:30 a.m. Until 12 p.m.

The Council will receive a litigation brief if needed and elect a Council Chair and Vice Chair.

The Council will receive updates on the Florida Keys National Marine Sanctuary activities and the Marine Recreational Information Program (MRIP) Re-Visioning. The Council will receive Committee reports, review the Council Workplan and upcoming meetings, and discuss any other business as needed.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: August 22, 2024.
Rey Israel Marquez,
Acting Deputy Director, Office of Sustainable Fisheries, National Marine Fisheries Service.

[FR Doc. 2024-19226 Filed 8-26-24; 8:45 am]

BILLING CODE 3510-22-P